DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of August 20, 2018 through September 14, 2018. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely;

AND (ii and iii below)

(ii)(I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i)(I) There has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
93,631 | Astoria Warehousing, Peter Pan Seafoods, Icicle Seafoods, Total Employment and Management (TEAM) | Astoria, OR | March 12, 2017.
93,821 | Columbia River Logistics, Belgravia Investments, Galt Foundation, Integrity Staffing, etc | Vancouver, WA | May 17, 2017.
93,929 | Sem-Com Company Inc., Sales Office | Toledo, OH | June 27, 2017.
93,953 | Siteline Cabinetry, LLC, The Corsi Group, Inc., WorkSmart Systems, Inc | Keysville, VA | July 5, 2017.

The following certifications have been issued. The requirements of Section 222(a)(2)(B) (Shift in Production or Services to a Foreign Country Path or Acquisition of Articles or Services from a Foreign Country Path) of the Trade Act have been met.

TA-W No. | Subject firm | Location | Impact date
93,645 | Telephonics Corporation, Griffon Corporation, Nationwide Technical Resources Corporation | Huntington, NY | March 14, 2017.
93,645A | Telephonics Corporation, Griffon Corporation, Omnicon, FASTXchange Inc | Farmingdale, NY | March 14, 2017.
93,733 | ADP, LLC | Clackamas, OR | April 17, 2017.
93,872 | GE Drives and Controls, Inc., General Electric, Power GE Automation & Controls) Division | Salem, VA | June 6, 2017.
93,921 | Putnam Investments, LLC, Digital Technology, Great West Lifeco U.S., Accenture, Alexander Group, etc | Boston, MA | June 18, 2017.
93,924 | Bombardier Transportation (Holdings) USA, Inc., Americas Region, Rolling Stock Equipment, Adecco, Oxford Solutions, etc | Pittsburgh, PA | June 26, 2017.
93,937 | Johnson Controls, Inc., Finance, Building Technologies & Solutions, Johnson Controls International | Indianapolis, IN | June 28, 2017.
93,938 | Madison Polymeric Engineering, Inc., Hamilton Connection, Reitman Personnel | Branford, CT | June 28, 2017.
93,940 | Rexam Beverage Can Americas, Birmingham Plant, Ball Corporation, Manpower, Coretek | Birmingham, AL | June 28, 2017.
93,944 | Wells Fargo Servicing Customer Account Management (CAM), Wells Fargo & Company, Wells Fargo Consumer Lending Group (CLG) | Frederick, MD | June 29, 2017.
93,949 | The Collected Group, Fourth Floor/Career Group | Vernon, CA | July 3, 2017.
93,950 | Cordstrap USA Inc., North America, Cordstrap B.V., Halpin Personnel, Personnel Resources, etc | Sturtevant, WI | July 3, 2017.
93,955 | AG Industries LLC, Filtration Group, Westaff | St. Louis, MO | July 5, 2017.
93,959 | International Business Machines (IBM), HWS System US, Global Technical Services Division | Atlanta, GA | July 6, 2017.
93,959A | International Business Machines (IBM), HWS System US, Global Technical Services Division | Tucson, AZ | July 6, 2017.
93,959B | International Business Machines (IBM), HWS System US, Global Technical Services Division | Raleigh, NC | July 6, 2017.
93,967 | KeyBank NA, KeyCorp, Key Technology Operations, Network Operations Center, etc | Cleveland, OH | July 11, 2017.
93,967A | KeyBank NA, KeyCorp, Key Technology Operations, Network Operations Center, etc | Brooklyn, OH | July 11, 2017.
93,967B | KeyBank NA, KeyCorp, Key Technology Operations, Network Operations Center, etc | Buffalo, NY | July 11, 2017.
93,967C | KeyBank NA, KeyCorp, Key Technology Operations, Network Operations Center, etc | Albany, NY | July 11, 2017.
93,967D | KeyBank NA, KeyCorp, Key Technology Operations, Network Operations Center, etc | Tacoma, WA | July 11, 2017.
93,967E | KeyBank NA, KeyCorp, Key Technology Operations, Network Operations Center, etc | Solon, OH | July 11, 2017.
93,988 | Kraco Enterprises LLC | Compton, CA | July 17, 2017.
93,995 | MedPlast West Berlin, Inc., Medplast, LLC, MedPlast Engineered Products, Inc., Staffing Network | West Berlin, NJ | July 19, 2017.
94,003 | Noxell Corporation, Wella Corporation, HFC Prestige International US, Coty, Gus Perdikakis Associates, etc | Blue Ash, OH | July 23, 2017.
94,010 | GCL Solar Materials US I, LLC, Beacon Hill Financial, Cavalier IT | St. Charles, MO | July 25, 2017.
94,012 | Aspen Insurance U.S. Services Inc | Rocky Hill, CT | July 13, 2017.
94,012A | Aspen Insurance U.S. Services Inc | New York, NY | July 13, 2017.
94,012B | Aspen Insurance U.S. Services Inc | Boston, MA | July 13, 2017.
94,012C | Aspen Insurance U.S. Services Inc | Atlanta, GA | July 13, 2017.
94,012D | Aspen Insurance U.S. Services Inc | Miami, FL | July 13, 2017.
94,015 | International Automotive Components, IAC Group, Strasburg LLC Division | Strasburg, VA | June 28, 2017.
94,029 | Citicorp Credit Services, Inc. (USA), Citibank, N.A., Citicorp, Citigroup, Inc | Urbandale, IA | July 30, 2017.
94,036 | Pittsburgh Glass Works, LLC, Vitro, S.A.B., Vitro, Accounts Payable and Accounts Receivable, etc | Pittsburgh, PA | July 26, 2017.
94,042 | Honeywell Smithfield (RI13), Honeywell International, Inc., Safety and Productivity Solutions Division | Smithfield, RI | August 3, 2017.
94,052 | General Electric Company, GE Power-Gas Power Systems Division | Schenectady, NY | August 8, 2017.
94,057 | Great Lakes Polymer Technologies LLC, Bridon Cordage, Express Employment Professionals, etc | Albert Lea, MN | August 10, 2017.
94,068 | DIRECTV Latin America, LLC, AT&T Inc., Programming Operations Division | El Segundo, CA | August 20, 2017.
94,093 | Kaiam Corporation, Professional Employer Organization (PEO) ADP | Newark, CA | August 24, 2017.
94,096 | Stack-On Products, Alpha Guardian | Wauconda, IL | August 27, 2017.
94,101 | FLSmidth Inc., Cement, FLSmidth, Peak Technical Staffing USA, Allied Personnel Services | Bethlehem, PA | August 29, 2017.

The following certifications have been issued. The requirements of Section 222(e) (firms identified by the International Trade Commission) of the Trade Act have been met.

TA-W No. | Subject firm | Location | Impact date
93,823 | SSAB Minnesota, Inc., SSAB Enterprises, LLC, Aerotek, Volt Workforce Solutions | Roseville, MN | January 26, 2016.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
93,936 | GSK Consumer Healthcare, Inc., GlaxoSmithKline Consumer Healthcare Holdings (US), Randstad, Adecco, etc | Lincoln, NE.

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,532 | StandardAero Business Aviation Services, LLC, LAX Strategic Business Unit, Aviation Personnel | Los Angeles, CA
93,773 | Jeffboat LLC | Jeffersonville, IN
93,781 | Philips North America LLC, Philips Electronics North America Corporation, etc | Andover, MA
93,781A | Philips North America LLC, Philips Electronics North America Corporation, etc | Bothell, WA
93,884 | Conduent Commercial Solutions, LLC, Conduent Business Services, LLC | Raleigh, NC
93,884A | Conduent Commercial Solutions, LLC, Conduent Business Services, LLC | Tallahassee, FL
93,884B | Conduent State Healthcare, LLC, Conduent Business Services, LLC | Richmond, VA
93,884C | Conduent Human Resources Services, LLC, Conduent Business Services, LLC | Chesapeake, VA
93,884D | Conduent Credit Balance Solutions, LLC, Communications Business Unit, Conduent Business Services, LLC | Hunt Valley, MD
93,902 | Sutherland Healthcare Solutions Inc., Syracuse NY Facility, Sutherland Healthcare Solutions Private Ltd | Syracuse, NY
93,930 | Ariens Company | Auburn, NE
93,943 | U.S. Cocoa Mat, LLC, Carolina Royal Holdings, LP | St. George, SC
93,974 | Concord Litho Group, Inc., Masis Staffing Solutions, Ultimate Staffing Services, etc | Concord, NH

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
93,618 | AES Dayton Power Light, Human Resources, Accounting, and Safety Divisions, DP&L | Dayton, OH
93,654 | AES Ohio Generation (DP&L), JMSS Division | Aberdeen, OH
93,654A | AES Ohio Generation (DP&L), KEGS Division | Manchester, OH
93,654B | AES Ohio Generation (DP&L), Training Center | Manchester, OH
93,654C | AES Ohio Generation (DP&L), Hutchings Station | Miamisburg, OH

The following determinations terminating investigations were issued because the petitioning group of workers is covered by an earlier petition that is the subject of an ongoing investigation for which a determination has not yet been issued.

TA-W No. | Subject firm | Location | Impact date
93,638 | Tech Mahindra Americas, Inc | South Plainfield, NJ
93,722 | Tech Mahindra Americas, Inc | Alpharetta, GA
93,761 | Tech Mahindra Americas, Inc | Plano, TX

I hereby certify that the aforementioned determinations were issued during the period of August 20, 2018 through September 14, 2018. These determinations are available on the Department's website https://www.doleta.gov/tradeact/taa/taa_search_form.cfm under the searchable listing determinations or by calling the Office of Trade Adjustment Assistance toll free at 888-365-6822.

Signed at Washington, DC, on September 18, 2018.
Hope D. Kinglock,
Certifying Officer, Office of Trade Adjustment Assistance.

[FR Doc. 2018-24290 Filed 11-6-18; 8:45 am]

BILLING CODE 4510-FN-P